DEPARTMENT OF TRANSPORTATION

Federal Aviation Administration

14 CFR Part 71

[Docket No. FAA-2024-2455; Airspace Docket No. 24-ANM-98]

RIN 2120-AA66

Modification & Establishment of Class E Airspace; Cortez Municipal Airport, Cortez, CO

AGENCY: Federal Aviation Administration (FAA), DOT.

ACTION: Notice of proposed rulemaking (NPRM).

SUMMARY: This action proposes to modify the Class E airspace designated as a surface area, modify the Class E airspace extending upward from 700 feet above the surface, and establish Class E airspace designated as an extension to a Class E surface area at Cortez Municipal Airport, Cortez, CO. Additionally, this action proposes administrative amendments to update the airport's legal descriptions. These actions would support the safety and management of instrument flight rules (IFR) operations at the airport.

DATES: Comments must be received on or before March 3, 2025.

ADDRESSES: Send comments identified by FAA Docket No. [FAA-2024-2455] and Airspace Docket No. [24-ANM-98] using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Nathan A. Chaffman, Federal Aviation Administration, Western Service Center, Operations Support Group, 2200 S. 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify and establish Class E airspace to support IFR operations at Cortez Municipal Airport, Cortez, CO.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S. 216th Street, Des Moines, WA 98198.

Incorporation by Reference

Class E2, E4, and E5 airspace designations are published in paragraphs 6002, 6004, and 6005, respectively, of FAA Order JO 7400.11, Airspace Designations and Reporting Points, which is incorporated by reference in 14 CFR 71.1 on an annual basis. This document proposes to amend the current version of that order, FAA Order JO 7400.11J, dated July 31, 2024 and effective September 15, 2024. These updates would be published in the next update to FAA Order JO 7400.11. That order is publicly available as listed in the ADDRESSES section of this document.

FAA Order JO 7400.11J lists Class A, B, C, D, and E airspace areas, air traffic service routes, and reporting points.

The Proposal

The FAA is proposing an amendment to 14 CFR part 71 that would modify the Class E airspace designated as a surface area, modify the Class E airspace extending upward from 700 feet above the surface, and establish Class E airspace designated as an extension to a Class E surface area at Cortez Municipal Airport, Cortez, CO.

The radius of the Class E airspace designated as a surface area should be widened by a half mile to better contain arriving IFR aircraft when less than 1,000 feet above the surface when conducting circling maneuvers or when executing the area navigation (RNAV) (Global Positioning System [GPS]) Runway (RWY) 3 approach, and aircraft conducting the missed approach portions of the Very High Frequency Omnidirectional Range (VOR) RWY 3, RNAV (GPS) Y RWY 21, and RNAV (GPS) Z RWY 21 approaches until reaching the next adjacent airspace. Furthermore, the Class E surface area should be extended .8 miles to the northeast to laterally contain IFR departure operations while between the surface and the base of adjacent controlled airspace when executing the LEDVE RWY 3 or CORTEZ TWO RWY 3 departure procedures. Moreover, the Class E surface area should be extended 2.4 miles to the southwest to laterally contain IFR departure operations while between the surface and the base of adjacent controlled airspace when executing the LEDVE RWY 21 or CORTEZ TWO RWY 21 departure procedures. Finally, the northern leg of the Class E surface area no longer serves the purpose of containment and should be removed.

An extension to the Class E surface area measuring approximately 8 x 8 miles should be established to the northeast, as the Class E surface area does not fully contain arriving IFR aircraft when less than 1,000 feet above the surface when executing the RNAV (GPS) Y RWY 21 or RNAV (GPS) Z RWY 21 approaches. An extension to the Class E surface area would contain these operations more appropriately without imposing a 2-way radio communication requirement.

The central radius of the Class E airspace extending upward from 700 feet above the surface should be reduced from 7 miles to 6.1 miles, as there are portions of the airspace to the southeast and west that do not provide procedural containment. Secondly, the northern extension of the Class E airspace extending upward from 700 feet above the surface should be widened by 6 miles and re-aligned to the northeast, which would better contain arriving IFR operations below 1,500 feet above the surface when executing the RNAV (GPS) Y RWY 21 or RNAV (GPS) Z RWY 21 approaches. The Class E airspace extending upward from 700 feet above the surface should be extended to the southwest to contain aircraft more appropriately until reaching 1,200 feet above the surface when executing the CORTEZ TWO RWY 21 or LEDVE ONE RWY 21 departure procedures, or the missed approach portion of the RNAV (GPS) Z RWY 21 approach until reaching 1,200 feet above the surface. Lastly, the Class E airspace extending upward from 700 feet above the surface should be extended 1.8 miles to the north-northwest of the airport to better contain aircraft executing the missed approach portion of the RNAV (GPS) Y RWY 21 approach until reaching 1,200 feet above the surface.

Finally, the FAA proposes administrative modifications to the airport's legal descriptions. The airport's name on line two of the legal description text headers should be amended to read “Cortez Municipal Airport” to match the FAA's database. Reference to the Cortez VOR/distance measuring equipment (DME) on line three of the airport's legal descriptions is no longer needed and should be removed. The airspace should be described using the airport reference point. The Class E surface area legal description should be updated to replace the outdated use of the phrases “Notice to Airmen” and “Airport/Facility Directory.” These phrases should read “Notice to Air Missions” and “Chart Supplement,” respectively, to align with the FAA's current nomenclature.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6002 Class E Airspace Areas Designated as a Surface Area.

* * * * *

ANM CO E2 Cortez, CO [Amended]

Cortez Municipal Airport, CO

(Lat. 37°18′11″ N, long. 108°37′41″ W)

That airspace extending upward from the surface within a 4.8-mile radius of the airport, within 1.9 miles either side of the airport's 032° bearing extending from its 4.8-mile radius to 5.6 miles northeast, and within 1.9 miles either side of the airport's 217° bearing extending from its 4.8-mile radius to 7.2 miles southwest. This Class E airspace area is effective during the specific dates and times established in advance by a Notice to Air Missions. The effective date and time will thereafter be continuously published in the Chart Supplement.

* * * * *

Paragraph 6004 Class E Airspace Areas Designated as an Extension to a Class D or Class E Surface Area.

* * * * *

ANM CO E4 Cortez, CO [New]

Cortez Municipal Airport, CO

(Lat. 37°18′11″ N, long. 108°37′41″ W)

That airspace extending upward from the surface within 4.1 miles either side of the airport's 042° bearing extending from its 4.8-mile radius to 13 miles northeast of the airport, excluding that airspace within the airport's Class E airspace designated as a surface area.

* * * * *

Paragraph 6005 Class E Airspace Areas Extending Upward From 700 Feet or More Above the Surface of the Earth.

* * * * *

ANM CO E5 Cortez, CO [Amended]

Cortez Municipal Airport, CO

(Lat. 37°18′11″ N, long. 108°37′41″ W)

That airspace extending upward from 700 feet above the surface within a 6.1-mile radius of the airport, within 6.1 miles either side of the airport's 048° bearing extending from the 6.1-mile radius to 18.8 miles northeast, within 1.9 miles either side of the airport's 217° bearing extending from the 6.1-mile radius to 9.4 miles southwest, and within 4.2 miles west of the airport's 350° bearing extending from the 6.1-mile radius to 7.9 miles north.

* * * * *

Issued in Des Moines, Washington, on December 20, 2024.
B.G. Chew,
Group Manager, Operations Support Group, Western Service Center.

[FR Doc. 2025-00113 Filed 1-15-25; 8:45 am]

BILLING CODE 4910-13-P